DEPARTMENT OF ENERGY

Federal Energy Regulatory Commission

[Docket No. CP06-465-000]

Puget Sound Energy, Inc.; Notice of Application

October 13, 2006.

Take notice that on September 22, 2006, Puget Sound Energy, Inc., (Puget), as Operator of the Jackson Prairie Storage Project (Project), 10885 NE. 4th Street P.O. Box 97034 Bellevue, WA 98009-9734, filed in Docket No. CP06-465-000, an application pursuant to section 7(c) of the Natural Gas Act (NGA), as amended, for authorization to construct and operate facilities to mitigate gas migration at the storage facility, and to confirm the approved status of all current well operations at the storage facility as well as the Project's certificated zone boundaries, all as more fully set forth in the application which is on file with the Commission and open to public inspection. This filing may also be viewed on the Commission's Web site at http://www.ferc.gov using the “eLibrary” link. Enter the docket number, excluding the last three digits, in the docket number field to access the document. For assistance, call (202) 502-8659 or TTY, (202) 208-3676.

Specifically, Puget seeks: (1) Certificate authority to construct and operate facilities (including certain minor pipeline, compression, and related facilities) necessary to efficiently recycle natural gas back to Zone 2, a currently authorized storage reservoir at the Project, from Zone 1, another reservoir at the Project not currently authorized for storage activities, to which such gas has migrated, and to utilize Zone 1 on an ongoing basis in support of the previously authorized Zone 2 storage operation; (2) an amendment to the Project's existing certificate to reflect a small reduction in the authorized cushion gas level at the project; and (3) amendments to existing certificates or new certificate authority, as necessary, to confirm the approved status of all current well operations at the Project's certificated zone boundaries.

Any questions regarding this application should be directed to Andrea J. Chambers, Troutman Sanders LLP, 401 9th Street, NW., suite 1000 Washington, DC 20004-4605, or call (202) 274-2950.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments protests and interventions via the internet in lieu of paper. See 18 CFR 385.2001(a)(1)(iii) and the instructions on the Commission's Web site (http://www.ferc.gov) under the “e-Filing” link.

Comment Date: November 3, 2006.

Magalie R. Salas,
Secretary.

[FR Doc. E6-17469 Filed 10-18-06; 8:45 am]

BILLING CODE 6717-01-P